DEPARTMENT OF ENERGY

Federal Energy Regulatory Commission

Notice of Extending Comment Period of Application for Amendment of License

May 4, 2000.

Take notice that the following hydroelectric application has been filed with the Commission and is available for public inspection.

a. Application Type: Amendment of License.

b. Project No.: 2101-068.

c. Date Filed: March 6, 2000 and April 20, 2000.

d. Applicant: Sacramento Municipal Utility District (SMUD).

e. Name of Project: Upper American River Hydroelectric Project (Camino Development).

f. Location: The Camino Development is located on the South Fork American River in El Dorado County, California.

g. Filed Pursuant to: Federal Power Act, 16 U.S.C. §§ 791(a)-825(r).

h. Applicant's Contact: Lon Maier, 6201 S Street, Sacramento, CA, 95817, (916) 732-6566.

i. FERC Contact: Any questions on this notice should be addressed to Doan Pham at (202) 219-2851 or e-mail address doan.pham@ferc.fed.us.

j. Deadline for filing comments, motions to intervene, or protests: May 31, 2000.

All documents (original and eight copies) should be filed with: David P. Boergers, Secretary, Federal Energy Regulatory Commission, 888 First Street, NE., Washington, DC 20426.

Please include the Project Number (2101-068) on any comments, protests, or motions filed.

k. Description of Amendment: On April 20, 2000, SMUD filed a revised design plan for a deflection wall at the Camino Powerhouse. The original design plan was filed on March 6, 2000. The revised wall is 41 feet longer, and the connection point to the upstream retaining wall is relocated about 20 feet further upstream. The original comment period is extended by 21 days to give all participating parties additional time to review and comment on the revised design.

l. Locations of the Application: A copy of the application is available for inspection and reproduction at the Commission's Public Reference Room, located at 888 First Street NE, Room 2A, Washington, DC 20426, or by calling (202) 208-1371. This filing may be viewed on http://www.ferc.fed.us/online/rims.htm (call (202) 208-222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-11629 Filed 5-9-00; 8:45 am]

BILLING CODE 6717-01-M